DEPARTMENT OF THE TREASURY

Office of Thrift Supervision

Submission for OMB Review; comment request—CRA Sunshine

AGENCY: Office of Thrift Supervision (OTS), Treasury.

ACTION: Notice and request for comment.

SUMMARY: The proposed information collection requirement described below has been submitted to the Office of Management and Budget (OMB) for review and approval, as required by the Paperwork Reduction Act of 1995. OTS is soliciting public comments on the proposal.

DATES: Submit written comments on or before June 11, 2007.

ADDRESSES: Send comments, referring to the collection by title of the proposal or by OMB approval number, to OMB and OTS at these addresses: Office of Information and Regulatory Affairs, Attention: Desk Officer for OTS, U.S. Office of Management and Budget, 725—17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: For further information or to obtain a copy of the submission to OMB, please contact Marilyn K. Burton at marilyn.burton@ots.treas.gov, (202) 906-6467, or facsimile number (202) 906-6518, Litigation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: CRA Sunshine.

OMB Number: 1550-0105.

Form Number: N/A.

Regulation requirement: 12 CFR part 533.

Description: This submission covers an extension of OTS's currently approved information collection contained in 12 CFR part 533. The submission involves no change to the regulations or to the information collection requirements.

The information collection requirements contained in the regulations are as follows:

Section 533.6(b)(1) requires each nongovernmental entity or person (NGEP) and each insured depository institution (IDI) or affiliate that enters into a covered agreement to make a copy of the covered agreement available to any individual or entity upon request.

Section 533.6(c)(1) requires each NGEP that is a party to a covered agreement to provide within 30 days after receiving a request from the relevant supervisory agency (1) a complete copy of the agreement; and (2) in the event the NGEP seeks confidential treatment of any portion of the agreement under FOIA, a copy of the agreement that excludes information for which confidential treatment is sought and an explanation justifying the request.

Sections 533.6(d)(1)(i) and 533.6(d)(1)(ii) require each IDI or affiliate within 60 days of the end of each calendar quarter to provide each supervisory agency with either (1) a complete copy of each covered agreement entered into by the IDI or affiliate during the calendar quarter; and in the event the IDI or affiliate seeks confidential treatment of any portion of the agreement under FOIA, a copy of the agreement that excludes information for which confidential treatment is sought and an explanation justifying the request; or (2) a list of all covered agreements entered into by the IDI or affiliate during the calendar quarter.

Section 533.6(d)(2) requires an IDI or affiliate to provide any relevant supervisory agency with a complete copy and public version of any covered agreement, if the IDI or affiliate submits a list of its covered agreements pursuant to § 533.6(d)(1)(ii).

Section 533.7(b) requires each NGEP and IDI or affiliate that is a party to a covered agreement to file an annual report with each relevant supervisory agency concerning the disbursement, receipt, and uses of funds or other resources under the covered agreement.

Section 533.7(f)(2)(ii) requires an IDI or affiliate that receives an annual report from a NGEP pursuant to § 533.7(f)(2)(i) to file the report with the relevant supervisory agency or agencies on behalf of the NGEP within 30 days.

Section 533.4(b) requires an IDI or affiliate that is party to a covered agreement that concerns any activity described in § 533.4(a) of a CRA affiliate to notify each NGEP that is a party to the agreement that the agreement concerns a CRA affiliate.

Current Actions

The current estimate is based on the actual number of IDIs or their affiliates that reported covered agreements to the agencies in 2004 and 2005. The number of NGEP respondents is based on an assumption that one NGEP is a party to each covered agreement.

Type of Review: Renewal.

Affected Public: Businesses or other for-profit; individuals.

Estimated Number of Respondents: 12 IDI; 1 NGEP.

Estimated Number of Responses: 842.

Estimated Frequency of Response: On occasion.

Estimated Total Burden: 439 hours.

Clearance Officer: Marilyn K. Burton, (202) 906-6467, Office of Thrift Supervision, 1700 G Street, NW., Washington, DC 20552.

OMB Reviewer: Desk Officer for OTS, Fax: (202) 395-6974, U.S. Office of Management and Budget, 725—17th Street, NW., Room 10235, Washington, DC 20503.

Dated: May 7, 2007.
Deborah Dakin,
Senior Deputy Chief Counsel, Regulations and Legislation Division.

[FR Doc. E7-9133 Filed 5-10-07; 8:45 am]

BILLING CODE 6720-01-P